ENVIRONMENTAL PROTECTION AGENCY

[EPA-HQ-OLEM-2022-0342, FRL-9840-01-OLEM]

Solid Waste Infrastructure for Recycling Program; Request for Information

AGENCY: Environmental Protection Agency (EPA).

ACTION: Request for Information (RFI).

SUMMARY: EPA's Office of Land and Emergency Management (OLEM) is developing and implementing several new programs as directed by the 2021 Infrastructure Investment and Jobs Act (IIJA), also referred to as the Bipartisan Infrastructure Law. This action provides the public with the opportunity to share information to inform the development of the Solid Waste Infrastructure for Recycling (SWIFR) grant program, which will fund improvements to local post-consumer materials management including municipal recycling programs and assist local waste management authorities in making improvements to local waste management systems. OLEM is seeking information from a broad array of stakeholders about needed improvements to solid waste management systems (e.g., waste reduction, collection, sorting, processing, and end-markets for reuse and recycling), including but not limited to industry, researchers, academia, state, tribal, and local governments including U.S. territories and the District of Columbia, other federal agencies, community groups, non-governmental organizations, the public, and international organizations.

DATES: Comments and information must be received on or before July 25, 2022.

ADDRESSES: Responses to this Request for Information (RFI) may be submitted by a single individual or by a group. Comments submitted in response to this notice may be submitted through one of the following methods:

• Federal eRulemaking Portal: Go to http://www.regulations.gov. Follow the online instructions for submitting comments.

• Hand Delivery or Courier: EPA Docket Center, WJC West Building, Room 3334, 1301 Constitution Avenue NW, Washington, DC 20004. The Docket Center's hours of operations are 8:30 a.m.-4:30 p.m., Monday-Friday (except Federal Holidays).

Once submitted, comments cannot be edited or removed from Regulations.gov. EPA may publish any comment received to its public docket. Do not submit electronically any information you consider to be Confidential Business Information (CBI) or other information whose disclosure is restricted by statute. Multimedia submissions (audio, video, etc.) must be accompanied by a written comment. For additional submission methods, the full EPA public comment policy, information about CBI or multimedia submissions, and general guidance on making effective comments, please visit https://www.epa.gov/dockets/commenting-epa-dockets.

Instructions: All submissions received must include the Docket ID No. OLEM-2022-0340 for this RFI. Comments received may be posted without change to https://www.regulations.gov/, including any personal information provided. For detailed instructions on sending comments and additional information on the Request for Information process, see the “Public Participation” heading of the SUPPLEMENTARY INFORMATION section of this document.

FOR FURTHER INFORMATION CONTACT: For questions concerning this document, contact Dan Halpert, Resource Conservation and Sustainability Division, Office of Resource Conservation and Recovery, Office of Land and Emergency Management, Mail Code 5306T, Environmental Protection Agency, 1200 Pennsylvania Avenue NW, Washington, DC 20004; Telephone: (202) 566-0816; Email: SWIFR@epa.gov. For more information on this action please visit https://www.epa.gov/rcra/infrastructure.

SUPPLEMENTARY INFORMATION:

I. Public Participation

Response to this RFI is voluntary. Responses to this RFI may be submitted by a single party or by a team. Respondents should respond to this RFI in a Microsoft Word (.docx) file or Adobe PDF (.pdf) file. This document should contain the following:

• Two clearly delineated sections: (1) Cover page with company name and contact information; and (2) responses should indicate which topic and specific questions are being addressed.

• 1-inch margins (top, bottom, and sides).

• Times New Roman and 12-point font.

Comments containing references, studies, research, and other empirical data that are not widely published should include copies or electronic links of the referenced materials. No confidential and/or business proprietary information, copyrighted information, or personally identifiable information should be submitted in response to this RFI. Privacy Note: All comments received from members of the public will be available for public viewing on Regulations.gov. In accordance with FAR 15.202(3), responses to this notice are not offers and cannot be accepted by the Federal Government to form a binding contract. Additionally, those submitting responses are solely responsible for all expenses associated with response preparation.

II. General Information

A. What is the purpose of this RFI?

Under the Infrastructure Investment and Jobs Act (IIJA; Pub. L. 117-58), also known as the Bipartisan Infrastructure Law, EPA is directed to develop several new solid waste recycling programs. This RFI covers the following activities established by the BIL:

• Support the implementation of a strategy to improve post-consumer materials management and infrastructure;

• Support improvements to local post-consumer materials management, including recycling programs; and

• Assist local waste management authorities in making improvements to local solid waste management systems.

The term post-consumer materials management refers to the systems, operation, supervision and long-term management of processes and equipment used for post-use material (including packaging, goods, products, and other materials), including collection; transport; and systems and processes related to post-use materials that can be recovered, reused, recycled, repaired, or refurbished.

This RFI seeks information from a broad array of stakeholders such as industry, researchers, academia, state, territories, local and tribal governments, other federal agencies, community groups, non-governmental organizations, international organizations, the public, and all other stakeholders involved in the recycling system from the collection and sorting to the reuse and recycling. OLEM is seeking information about needed improvements to post-consumer materials management (e.g., waste reduction, collection, sorting, processing, and end-markets for reuse and recycling). This stakeholder input will inform the Agency's efforts to develop effective grant programs that improve recycling infrastructure across the nation.

This RFI is part of a series of RFIs EPA will be issuing to inform the development of new programs under the Bipartisan Infrastructure Law. Other RFIs that are related include those on the Recycling Education and Outreach—Grant Program and Model Recycling Program Toolkit and the Development of Best Practices for Collection of Batteries to be Recycled and Voluntary Battery Labeling Guidelines.

III. Background

Approximately half of global greenhouse gas emissions are the result of natural resource extraction and processing.¹ Increasing recycling reduces climate, environmental, and social impacts of materials use, and keeps valuable resources in use instead of in landfills. Some communities that lack waste management infrastructure do not have curbside waste collection services, recycling, or composting programs, which increases the burden on our landfills, decreases their capacity, and increases greenhouse gas emissions. Mismanaged waste also can compound social and economic conditions in historically underserved and overburdened communities. Resources and commodities disposed of in landfills amount to a financial loss for recycling businesses and industries nationwide.

¹ International Resource Panel (2019). Global Resources Outlook 2019: Natural Resources for the Future We Want. Report of the International Resource Panel. United Nations Environment Programme. Nairobi, Kenya.

Section 302(a) of the Save Our Seas 2.0 Act (Pub. L. 116-224) authorized EPA to create a grant program to support post-consumer materials management and recycling efforts, now known as the SWIFR program. The IIJA was the first legislation to fund EPA's SWIFR program providing EPA with $275,000,000 to award grants, in increments of $55 million per year from fiscal years 2022-2026, to remain available until expended. Grants issued under SWIFR will support implementation of a strategy to improve post-consumer materials management and infrastructure; improvements to local post-consumer materials management and recycling programs; and assist local waste management authorities in making improvements to local solid waste management systems.

EPA seeks input through this RFI to guide the program design to ensure that the SWIFR program meets the actual needs for improving materials management. Materials within the scope of this request include commonly recycled and reused materials, such as aluminum, glass, paper and plastics, as well as food, organics (yard waste, tree trimmings, wood, etc.), textiles, electronics and construction and demolition materials. Biosolids, hazardous waste and industrial wastes such as coal combustion residuals or slag are not within the scope of this request. Landfilling, incineration/combustion, and energy recovery technologies are not within the scope of this request.

EPA will not consider responses to this RFI to be proposals for financial assistance projects or unsolicited requests for financial assistance. Do not include confidential business information (CBI) or other privileged material in responses. Additionally, those submitting responses are solely responsible for all expenses associated with response preparation. Information gathered through this RFI may be used to inform potential strategies for supporting and improving state, territorial, tribal, and local recycling operations. ORCR welcomes comments from all stakeholders.

IV. Request for Information

Over the course of Spring 2022, ORCR will be hosting virtual meetings across the country with interested stakeholders to inform the development of the new programs established by the IIJA. This RFI and future RFIs aim to supplement those planned consultations and provide all interested individuals and organizations with the opportunity to share their perspectives on barriers and opportunities related to solid waste management infrastructure. SWIFR provides EPA with authority to award grants to states, the District of Columbia, territories (the Commonwealth of Puerto Rico, the U.S. Virgin Islands, Guam, American Samoa, and the Commonwealth of the Northern Mariana Islands), tribes and intertribal consortia, certain former reservations in Oklahoma, and Alaskan Native Villages and political subdivisions (e.g., local governments) for improvements to local post-consumer materials management including municipal recycling programs and to assist local waste management authorities in making improvements to local waste management systems.

Specifically, when responding to the questions below about solid waste or post-consumer materials management, consider in your response the recovery, reuse, recycle, repair, and/or refurbishment of municipal solid waste, as well as construction and demolition materials. This includes source reduction and reuse, sending materials to material recovery facilities, composting, industrial uses (e.g., rendering and anaerobic digestion), and feeding animals. OLEM is interested in perspectives on the following topics:

• What are the barriers and challenges facing states, territories, tribes, local governments and communities with regard to post-consumer materials management and how can SWIFR grants assist in overcoming those barriers?

• EPA is considering a wide range of eligible uses for SWIFR funds including planning, facility-specific feasibility studies, infrastructure improvements such as equipment upgrades, and new construction. Are there other activities that EPA should consider for funding eligibility when completing the design of the SWIFR grant program? For other activity recommendations, please provide associated estimated costs.

• What are some examples of post-consumer materials management projects, studies or initiatives, and associated estimated costs, that would support disadvantaged communities, rural communities, communities with environmental justice concerns, and tribes and territories?

• Are there negative impacts from post-consumer materials management facilities on communities? How could grant funds be used to eliminate or minimize those negative impacts? For any projects, studies, or initiatives referenced in response to this RFI, please also provide associated estimated costs.

• Are there specific recommendations that EPA should be considering to improve post-consumer materials management, such as:

○ Investments needed for state, territorial, tribal, and local waste management programs;

○ Examples of equipment and tangible infrastructure, technology, or other improvements needed to increase access and/or increase recovery of materials;

○ Recommendations on how to create greater system wide consistency on managing post-consumer materials;

○ Examples of projects, studies, or initiatives, and associated estimated costs, to increase access for communities without robust post-consumer materials management programs;

○ Examples of projects, studies, or initiatives, and associated estimated costs, to implement innovative approaches to improve post-consumer materials management;

○ Programs or projects that will support local, state or regional markets for material; and

○ State and local data needs to improve measurement of materials and how they are managed.

• Should EPA consider a phased approach to grant distribution to allow multi-year financing options? If so, please provide detailed recommendations on the phases EPA should consider.

• Should EPA consider allocating the funds to allow for a greater number of smaller grants to assist with discreet projects and planning, or a smaller number of larger grants to support a more complex investment?

• Do you have any additional information that might be considered by EPA in developing future programs to improve post-consumer materials management programs infrastructure?

V. Disclaimer and Important Note

This request for information is issued solely for information, research and planning purposes and does not constitute a Request for Proposals (RFP) or a Request for Applications (RFA). Responding to this RFI will not give any advantage to or preclude any organization or individual in any subsequently issued solicitation, RFP, or RFA. Any future development activities related to this activity will be announced separately on https://www.sam.gov and/or https://www.grants.gov. This RFI does not represent any award commitment on the part of the U.S. Government, nor does it obligate the Government to pay for costs incurred in the preparation and submission of any responses.

Dated: June 3, 2022.
Carolyn Hoskinson,
Director, Office of Resource Conservation and Recovery.

[FR Doc. 2022-12457 Filed 6-8-22; 8:45 am]

BILLING CODE 6560-50-P